NUCLEAR REGULATORY COMMISSION

Nuclear Security Coalition; Boiling-Water Reactors of Mark I and II Design; Notice of Issuance of Director's Decision Under 10 CFR 2.206

Notice is hereby given that the Director, Office of Nuclear Reactor Regulation, has issued a Director's Decision with regard to a Petition dated August 10, 2004, filed by the Nuclear Security Coalition (the Petitioner, comprised of 45 independent organizations), pursuant to section 2.206 of Title 10 of the Code of Federal Regulations (10 CFR). The Petition was supplemented by Paul Gunter of the Nuclear Information and Resource Service, an organization which is a member of the Nuclear Security Coalition, on November 29, 2004; December 6, 2004; March 15, 2005; March 28, 2005; April 12, 2005; and April 19, 2005. The Petitioner requested that the NRC take the following actions: (1) Issue a demand for information to the licensees for all Mark I and II boiling-water reactors (BWRs) and conduct a 6-month study of options for addressing structural vulnerabilities; (2) present the findings of the study at a national conference attended by all interested stakeholders, providing for transcribed comments and questions; (3) develop a comprehensive plan that accounts for stakeholder concerns and addresses structural vulnerabilities of all Mark I and II BWRs within a 12-month period; (4) issue orders to the licensees for all Mark I and II BWRs compelling incorporation of a comprehensive set of protective measures, including structural protections; and (5) make future operation of each Mark I and II BWR contingent on addressing their structural vulnerability with participation and oversight by a panel of local stakeholders.

In a letter dated October 19, 2004, the NRC informed the Petitioner that the issues in the Petition were accepted for review under 10 CFR 2.206 and had been referred to the Office of Nuclear Reactor Regulation for appropriate action. A copy of the acknowledgment letter is publicly available in the NRC's Agencywide Documents Access and Management System (ADAMS) under Accession No. ML042860465. A copy of the Petition is publicly available in ADAMS under Accession No. ML042370023.

The Petitioners' representatives met with NRC staff on September 23, 2004, to provide additional details in support of this request. This meeting was transcribed and the meeting summary with the transcript attached is publicly available in ADAMS under Accession No. ML042870571.

The NRC sent a copy of the proposed Director's Decision to the Petitioner for comment on June 29, 2005 (Accession No. ML051250010). The Petitioner and two of its member organizations commented on the proposed Director's Decision by letters dated July 29, 2005 (Accession Nos. ML052340473; ML052350440; ML052310022).

The Director of the Office of Nuclear Reactor Regulation has determined that (1) The proposed demand for all licensees of Mark I and II BWRs to conduct a 6-month study of options for addressing structural vulnerabilities has, in effect, been granted; (2) the proposed national conference to present the findings of the study has been denied; (3) the proposed development of a comprehensive plan to account for stakeholder concerns and address structural vulnerabilities of all Mark I and II BWRs is considered to have been granted; (4) the proposed issuance of orders to the licensees for all Mark I and II BWRs compelling incorporation of a comprehensive set of protective measures is denied; and (5) the proposed requirement that future operation of each Mark I and II BWR be contingent on addressing their structural vulnerability, with participation and oversight by a panel of local stakeholders, is denied. The reasons for these decisions are explained in the Director's Decision pursuant to 10 CFR 2.206 (DD-05-04), the complete text of which is available in ADAMS, and is available for inspection at the Commission's Public Document Room (PDR), located at One White Flint North, Public File Area O-1F21, 11555 Rockville Pike (first floor), Rockville, Maryland. Publicly available records are accessible from the ADAMS Public Electronic Reading Room on the NRC Web site, http://www.nrc.gov/reading-rm/adams.html. Persons who do not have access to ADAMS or who encounter problems in accessing the documents located in ADAMS should contact the NRC PDR reference staff at 1-800-397-4209 or 301-415-4737, or by e-mail to pdr@nrc.gov.

A copy of the Director's Decision will be filed with the Secretary of the Commission for the Commission's review in accordance with 10 CFR 2.206 of the Commission's regulations. As provided for by this regulation, the Director's Decision will constitute the final action of the Commission 25 days after the date of the decision, unless the Commission, on its own motion, institutes a review of the Director's Decision in that time.

Dated at Rockville, Maryland, this 7th day of November 2005.
For the Nuclear Regulatory Commission.
J.E. Dyer,
Director, Office of Nuclear Reactor Regulation.

[FR Doc. E5-6269 Filed 11-14-05; 8:45 am]

BILLING CODE 7590-01-P